DEPARTMENT OF DEFENSE

Department of the Air Force

[No. USAF-2006-0010]

Submission for OMB Review; Comment Request

ACTION: Notice.

The Department of Defense has submitted to OMB for clearance, the following proposal for collection of information under the provisions of the Paperwork Reduction Act (44 U.S.C. Chapter 35).

DATES: Consideration will be given to all comments received by December 27, 2006.

Title and OMB Number: AFRL/AFOSR Summer Faculty Fellowship Program (SFFP) and USAF/NRC Resident Research Associateships Program; OMB Number 0701-TBD.

Type of Request: New.

Number of Respondents: 280.

Responses Per Respondent: 1.

Annual Responses: 280.

Average Burden Per Response: 16 hours.

Annual Burden Hours: 4,480.

Needs and Uses: The Air Force Office of Scientific Research (AFOSR) manages the entire basic research investment for the US Air Force. As part of the Air Force Research Laboratory (AFRL), AFOSR's technical experts support and fund research programs within the AFRL and other Air Force research activities. Applications for fellowships and associateships at AFRL research sites and the research activities at the US Air Force Academy and the Air Force Institute of Technology (AFIT), and the associated award forms, provide information used to identify some of the Nation's most talented scientific personnel for award of fellowships and associateships at Air Force research activities. Summer fellowships provide research opportunities for 8-14 weeks at an Air Force research site. Research Associates generally spend 1 to 3 years at an Air Force research site.

SFFP and NRC/RRA provide postdoctoral and senior scientists and engineers of unusual promise and ability opportunities for conducting research on problems that are defense requirements. Application information will be used for evaluation and selection of scientists and engineers to be awarded fellowships and associateships.

Failure to respond renders the applicant ineligible for a fellowship.

Affected Public: Individuals or households.

Frequency: Annually (SFFP) and quarterly (NRC/RRA).

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated October 23, 2006.
Patricia L. Toppings,
Alternate OSD Federal Register Liaison Officer, Department of Defense.

[FR Doc. 06-9393 Filed 11-24-06; 8:45 am]

BILLING CODE 5001-06-M